DEPARTMENT OF THE INTERIOR

Bureau of Land Management

[CO-800;1920-PP-4070]

Northern San Juan Basin Coal Bed Methane Development Project, CO

AGENCY: Bureau of Land Management, Department of the Interior and U.S. Forest Service, Department of Agriculture (Joint Lead Agencies).

ACTION: Notice of availability.

SUMMARY: Pursuant to the National Environmental Policy Act of 1969, the Federal Land Policy Management Act of 1976 and other regulatory requirements, the Joint Lead Agencies announce the availability of the Northern San Juan Basin Coal Bed Methane Development Project Final Environmental Impact Statement (FEIS) for coal bed natural gas development in the northern portion of the San Juan Basin, in La Plata and Archuleta Counties, Colorado. The Joint Lead Agencies have prepared the FEIS to provide agency decision makers and the public with comprehensive environmental impact information on which to base coal bed natural gas project development decisions.

DATES: The FEIS will be available until September 11, 2006, before any final project determinations will be made.

ADDRESSES: Questions, requests for copies of the FEIS, or new information that is relevant to project decision making may be sent by mail to the San Juan Public Lands Center, 15 Burnett Court, Durango, CO 81301, Attn: Walt Brown, or by E-mail to: nsjb-feis@arcadis-us.com by September 11, 2006. The FEIS is also available on the Internet at http://nsjb-eis.net/.

Names and street addresses of respondents, will be available for public review at the San Juan Public Lands Center, 15 Burnett Court, Durango, Colorado, during regular business hours (8 a.m. to 4:30 p.m.), Monday through Friday, except holidays.

Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

FOR FURTHER INFORMATION CONTACT: Walt Brown or Jim Powers at the above address, or phone: 970-385-1304.

SUPPLEMENTARY INFORMATION: The FEIS analyzes industry's gas field development proposal (approximately two hundred sixty-two new wells) and four other alternatives in a 125,000-acre Study Area in the Northern San Juan Basin of Colorado. The Study Area occupies portions of La Plata and Archuleta Counties, and is bounded on the south by the Southern Ute Reservation and on the west, north and east by the arcing line of the base of the Pictured Cliffs sandstone.

The Study Area consists of approximately 7,000 acres of BLM administered land, 49,000 acres of U.S. Forest Service administered land, 9,000 acres of private lands with federal minerals and 60,000 acres of state or privately held (fee) lands with non-federal minerals.

Dated: July 26, 2006.
Mark W. Stiles,
Center Manager/Forest Supervisor, San Juan Public Lands Center, Durango, Colorado.

[FR Doc. E6-12610 Filed 8-9-06; 8:45 am]

BILLING CODE 4310-JB-P